DEPARTMENT OF DEFENSE

Department of the Army

Availability for Non-Exclusive, Exclusive, or Partially Exclusive Licensing of U.S. Patent Application Concerning Apparatus for Fastening and Loosening a Lid from a Container

AGENCY: Department of the Army, DoD.

ACTION: Notice.

SUMMARY: In accordance with 37 CFR 404.6 and 404.7, announcement is made of the availability for licensing of U.S. Patent Application No. 11/133,444 entitled “Apparatus for Fastening and Loosening a Lid from a Container,” filed May 20, 2005. Foreign rights are also available (PCT/US2005/017728). The United States Government, as represented by the Secretary of the Army, has rights in this invention.

ADDRESSES: Commander, U.S. Army Medical Research and Materiel Command, ATTN: Command Judge Advocate, MCMR-ZA-J, 504 Scott Street, Fort Detrick, Frederick, MD 21702-5012.

FOR FURTHER INFORMATION CONTACT: For patent issues, Ms. Elizabeth Arwine, Patent Attorney, (301) 619-7808. For licensing issues, Dr. Paul Mele, Office of Research & Technology Assessment, (301) 619-6664, both at telefax (301) 619-5034.

SUPPLEMENTARY INFORMATION: The device performs the function of opening and/or closing lids attached to containers, and more particularly child-proof lids in at least some embodiments. The device preferably includes a base, a post, an arm, a mechanism that converts straight movement to rotation movement, and a plate to engage the lid of a container. The conversion mechanism in at least some embodiments includes a spring.

Brenda S. Bowen,
Army Federal Register Liaison Officer.

[FR Doc. 06-9049 Filed 11-2-06; 8:45 am]

BILLING CODE 3710-08-M